DEPARTMENT OF TRANSPORTATION

Federal Railroad Administration

[Docket No. FRA-2000-7257; Notice No. 56]

Railroad Safety Advisory Committee (RSAC); Working Group Activity Update

AGENCY: Federal Railroad Administration (FRA), Department of Transportation (DOT).

ACTION: Announcement of Railroad Safety Advisory Committee (RSAC) Working Group Activities.

SUMMARY: The FRA is updating its announcement of RSAC's Working Group activities to reflect its current status.

FOR FURTHER INFORMATION CONTACT: Larry Woolverton, RSAC Designated Federal Officer/Administrative Officer, FRA, 1200 New Jersey Avenue, SE., Mailstop 25, Washington, DC 20590, (202) 493-6212; or Grady Cothen, Deputy Associate Administrator for Safety, FRA, 1200 New Jersey Avenue, SE., Mailstop 25, Washington, DC 20590, (202) 493-6302.

SUPPLEMENTARY INFORMATION: This notice serves to update FRA's last announcement of working group activities and status reports of June 19, 2009 (74 FR 29268, 11401). The 39th full RSAC Committee meeting was held June 25, 2009, and the 40th meeting is scheduled for September 10, 2009, at the Washington Marriott Hotel, 1221 22nd Street, NW., Washington, DC.

Since its first meeting in April of 1996, the RSAC has accepted 32 tasks. The status for each of the open tasks (neither completed nor terminated) is provided below:

Open Tasks

Task 96-4—Tourist and Historic Railroads. Reviewing the appropriateness of the agency's current policy regarding the applicability of existing and proposed regulations to tourist, excursion, scenic, and historic railroads. This task was accepted on April 2, 1996, and a Working Group was established. The Working Group monitored the steam locomotive regulation task. Planned future activities involve the review of other regulations for possible adaptation to the safety needs of tourist and historic railroads. Contact: Grady Cothen, (202) 493-6302.

Task 03-0l—Passenger Safety. This task includes updating and enhancing the regulations pertaining to passenger safety, based on research and experience. This task was accepted on May 20, 2003, and a Working Group was established. Prior to embarking on substantive discussions of a specific task, the Working Group set forth in writing a specific description of the task. The Working Group reports planned activities to the full Committee at each scheduled full RSAC meeting, including milestones for completion of projects and progress toward completion. At the first meeting, held September 9-10, 2003, a consolidated list of issues was completed. At the second meeting, held November 6-7, 2003, four task groups were established: Emergency Preparedness; Mechanical; Crashworthiness; and Track I Vehicle Interaction. The task forces met and reported on activities for Working Group consideration at the third meeting held May 11-12, 2004, and a fourth meeting was held October 26-27, 2004. The Working Group met on March 21-22, 2006, and again on September 12-13, 2006, at which time the group agreed to establish a task force on General Passenger Safety. The full Passenger Safety Working Group met on April 17-18, 2007; December 11-12, 2007; November 13, 2008; and June 8, 2009. On August 5, 2009, the Working Group was requested to establish an Engineering Task Force, which would be expected to meet initially on September 23-24, 2009, to consider technical criteria and procedures for qualifying alternative passenger equipment designs as equivalent in safety to equipment meeting the design standards in the Passenger Equipment Safety Standards. The next meeting of the Working Group is scheduled for December 8, 2009. Contact: Charles Bielitz, (202) 493-6314.

(Emergency Preparedness Task Force) At the Working Group meeting of March 9-10, 2005, the Working Group received and approved the consensus report of the Emergency Preparedness Task Force related to emergency communication, emergency egress, and rescue access. These recommendations were presented to and approved by the full RSAC Committee on May 18, 2005. The Working Group met on September 7-8, 2005, and additional, supplementary recommendations were presented to and accepted by the full RSAC on October 11, 2005. The Notice of Proposed Rulemaking (NPRM) was published on August 24, 2006 (71 FR 50275), and was open for comment until October 23, 2006. The Working Group agreed upon recommendations for the final rule, including resolution of final comments received, during the April 17-18, 2007, meeting. The recommendations were presented to and approved by the full RSAC on June 26, 2007. The Passenger Train Emergency Systems final rule, focusing on emergency communication, emergency egress, and rescue access, was published on February 1, 2008 (73 FR 6370). The Task Force met on October 17-18, 2007, and reached consensus on draft rule text for a follow-up NPRM on Passenger Train Emergency Systems, focusing on low location emergency exit path marking, emergency lighting, and emergence signage. The Task Force presented the draft rule text to the Passenger Safety Working Group on December 11-12, 2007, and the consensus draft rule text was presented to and approved by full RSAC vote during the February 20, 2008, meeting. During the May 13-14, 2008, meeting, the Task Force recommended clarifying the applicability of backup emergency communication system requirements in the February 1, 2008, final rule, and FRA announced its intention to exercise limited enforcement discretion for a new provision amending instruction requirements for emergency window exit removal. The Working Group ratified these recommendations on June 19, 2008. The Task Force met again on March 31, 2009, to clarify issues related to the follow-up NPRM raised by members. The modified rule text was presented to and approved by the Passenger Safety Working Group on June 8, 2009. The Working Group requested that FRA draft the rule text requiring daily inspection of removable panels or windows in vestibule doors, and entrust the Emergency Preparedness Task Force with reviewing the text. FRA sent the draft text and is sending this back to the Task Force for review and comment on August 4, 2009. No additional Task Force meetings are currently scheduled. Contact: Brenda Moscoso, (202) 493-6282.

(Mechanical Task Force) (Completed) Initial recommendations on mechanical issues (revisions to Title 49 Code of Federal Regulations (CPR) Part 238) were approved by the full Committee on January 26, 2005. At the Working Group meeting of September 7-8, 2005, the Task Force presented additional perfecting amendments and the full RSAC approved them on October 11, 2005. An NPRM was published in the Federal Register on December 8, 2005 (70 PR 73070). Public comments were due by February 17, 2006. The final rule was published in the Federal Register on October 19, 2006 (71 FR 61835), effective December 18, 2006.

(Crash worthiness Task Force) Among its efforts, the Crashworthiness Task Force provided consensus recommendations on static end strength that were adopted by the Working Group on September 7-8, 2005. The full Committee accepted the recommendations on October 11, 2005. The Front-End Strength of Cab Cars and Multiple-Unit Locomotives NPRM was published in the Federal Register on August 1, 2007 (72 FR 42016), with comments due by October 1, 2007. A number of comments were entered into the docket, and a Crashworthiness Task Force meeting was held September 9, 2008, to resolve comments on the NPRM. Based on the consensus language agreed to at the meeting, PRA has prepared the text of the final rule incorporating the resolutions made at the Task Force meeting and the final rule language was adopted at the Passenger Safety Working Group meeting held on November 13, 2008. The language was presented and approved at the December 10, 2008, full RSAC meeting. The rule is currently in final coordination and will go forward with a target publication date of August 2009. Contact: Gary Fairbanks, (202) 493-6322.

(Vehiclenrack Interaction Task Force) The Task Force is developing proposed revisions to 49 CFR Parts 213 and 238, principally regarding high-speed passenger service. The Task Force met on October 9-11, 2007, and again on November 19-20, 2007, in Washington, DC, and presented the final Task Force Report and final recommendations and proposed rule text for approval by the Passenger Safety Working Group at the December 11-12, 2007, meeting. The final report and the proposed rule text were approved by the Working Group and was presented to and approved by full RSAC vote during the February 20, 2008, meeting. The group last met on February 27-28, 2008, and FRA is currently crafting an NPRM with a target publication date of September 2009. No additional Task Force meetings are currently scheduled. Contact: John Mardente, (202) 493-1335.

(General Passenger Safety Task Force) At the Working Group meeting on April 17-18, 2007, the Task Force presented a progress report to the Working Group. The Task Force met on July 18-19, 2007, and afterwards, it reported proposed reporting cause codes for injuries involving the platform gap, which were approved by the Working Group by mail ballot in September 2007. The full RSAC approved the recommendations for changes to 49 CFR part 225 accident/incident cause codes on October 25, 2007. The General Passenger Safety Task Force presented draft guidance material for management of the gap that was considered and approved by the Working Group during the December 11-12, 2007, meeting, and was presented to and approved by full RSAC vote during the February 20, 2008, meeting. The group met April 23-24, 2008; December 3-4, 2008; and April 21-23, 2009. The Task Force continues work on passenger train door securement, “second train in station,” trespasser incidents, and System Safety-based solutions by developing a regulatory approach to System Safety. The Task Force has created two Task Groups to focus on these issues. The Door Safety Task Group has reached consensus on 47 out of 48 safety issues addressed in the area of passenger train door mechanical and operational requirements, and will present draft regulatory language to the General Passenger Safety Task Force at the next meeting. The System Safety Task Group has produced draft regulatory language for a System Safety Rule and will present its recommendation to the General Passenger Safety Task Force at the next meeting. The next General Passenger Safety Task Force meeting is scheduled for October 6-7, 2009. Contact: Dan Knote, (631) 567-1596.

Task 05-01—Review of Roadway Worker Protection Issues. This task was accepted on January 26, 2005, to review 49 CFR Part 214, Subpart C, Roadway Worker Protection (RWP), and related sections of Subpart A. The RSAC agreed to recommend consideration of specific actions to advance the on-track safety of railroad employees and contractors engaged in maintenance-of-way activities throughout the general system of railroad transportation, including clarification of existing requirements. A Working Group was established, and reported to the RSAC any specific actions identified as appropriate. The first meeting of the Working Group was held on April 12-14, 2005. The group drafted and accepted regulatory language for various revisions, clarifications, and additions to 32 separate items in 19 sections of the rule. However, two parties raised technical concerns regarding the draft language concerning the electronic display of track authorities. The Working Group reported recommendations to the full Committee at the June 26, 2007, meeting. Through the NPRM process, FRA will address this issue, along with eight additional items on which the Working Group was unable to reach a consensus. Comments were received and were considered during the drafting of the NPRM. In early 2008, the external working group members were solicited to review the consensus text for errata review.

In order to address the heightened concerns raised with the current regulations for adjacent-track on-track safety, an NPRM was published on July 17, 2008, that focused on this element of the RWP rule alone. As this was an NPRM, FRA sought comment on the entire proposal, including those portions that FRA sought to clarify. However, on August 13, 2008, the NPRM was withdrawn to permit further consideration of the RSAC-reported consensus language.

FRA has decided to separately issue a second proposed rule on adjacent track protection, which will be handled on an accelerated basis. The second NPRM concerning adjacent controlled-track safety is under final review and is expected to be published within the next 2 months. The remaining larger NPRM for the various revisions, clarifications, and additions to 31 separate items in 19 sections of the rule, and FRA's recommendations for the eight nonconsensus items, is planned for late 2009. FRA intends to address all the items discussed through two rulemakings: (1) A relatively compact rulemaking that will address adjacent track protection and (2) a longer, catchall rulemaking that will address all consensus items and be broad enough in scope to raise the nonconsensus items for further discussion and comment. The decision to issue a separate adjacent track rule was due to an increase in roadway worker fatalities that occurred on adjacent track. Consequently, a draft NPRM to address adjacent track protection was published in the Federal Register on July 17, 2008, but due to concern that parts of the NPRM failed to accurately capture the consensus recommendations of the RSAC, the NPRM was withdrawn by FRA on August 13, 2008. FRA will address discrepancies between the consensus language and the adjacent track protection NPRM to clarify the essential issues, and intends to publish a second NPRM by August 31, 2009. FRA is also working on the longer, catchall rulemaking, and plans to publish an NPRM in late 2009. Contact: Christopher Schulte, (610) 521-8201.

Task 05-02—Reduce Human Factor-Caused Train Accidents/Incidents. This task was accepted on May 18, 2005, to reduce the number of human factor-caused train accidents/incidents and related employee injuries. The Railroad Operating Rules Working Group was formed and the Group extensively reviewed the issues presented. The final Working Group meeting devoted to developing a proposed rule was held February 8-9, 2006. The Working Group was not able to deliver a consensus regulatory proposal, but did recommend that it be used to review comments on FRA's NPRM, which was published in the Federal Register on October 12, 2006 (FR 71 60372), with public comments due by December 11, 2006. Two reviews were held, one on February 8-9, 2007, the other on April 4-5, 2007. Consensus was reached on four items and those items were presented and accepted by the full RSAC Committee at the June 26, 2007, meeting. A fmal rule was published in the Federal Register on February 13, 2008 (73 FR 8442), with an effective date of April 14, 2008. FRA received four petitions for reconsideration of that final rule. The final rule that responded to the petitions for consideration was published in the Federal Register on June 16, 2008, and concluded the rulemaking. Working group meetings were held September 27-28, 2007; January 17-18, 2008; May 21-22, 2008; and September 25-26, 2008. The Working Group has considered issues related to the issuance of Emergency Order No. 26 (prohibition on use of certain electronic devices while on duty) and “after arrival mandatory directives,” among other issues. The working group continues to work on after arrival orders, and at the September 25, 2008, meeting voted to create a Highway-Rail Grade Crossing Task Force to review highway-rail grade crossing accident reports regarding incidents of crossing warning systems providing “short or no warning,” resulting from or contributed to “by train operational issues” with the intent to recommend new accident/incident reporting codes that would better explain such events, and which may provide information for remedial action going forward. A follow-on task is to review and provide recommendations regarding supplementary reporting of train operations-related, nowarning, or short-warning incidents that are not technically warning system activation failures but which result in an accident/incident or a near miss. The Task Force has been formed and will meet in late 2009 after other Railroad Safety Improvement Act of 2008 (RSIA) priorities are met. Contact: Douglas Taylor, (202) 493-6255.

Task 06-01—Locomotive Safety Standards. This task was accepted on February 22, 2006, to review 49 CFR Part 229, Railroad Locomotive Safety Standards, and revise as appropriate. A Working Group was established with the mandate to report any planned activity to the full Committee at each scheduled full RSAC meeting, to include milestones for completion of projects, and to progress toward completion. The first Working Group meeting was held May 8-10, 2006. Working Group meetings were held on August 8-9, 2006; September 25-26, 2006; October 30-31, 2006; and the Working Group presented recommendations regarding revisions to requirements for locomotive standards to the full RSAC on September 21, 2006. The NPRM regarding standards was published in the Federal Register on March 6, 2007 (72 FR 9904). Comments received were discussed by the Working Group for clarification, and FRA published a final rule on October 19, 2007 (72 FR 59216). The Working Group is continuing the review of Part 229, with work in the areas of locomotive cab temperature standards, alerters, remote control locomotives, and critical locomotive electronics, with a view to proposing further revisions to update the standards. The Working Group met on January 9-10, 2007; November 27-28, 2007; February 5-6, 2008; May 20-21, 2008; August 5-6, 2008; October 22-23, 2008; January 6-7, 2009; and April 15-16, 2009. The group has now completed the review of Part 229 and was unable to reach consensus regarding locomotive cab temperatures standards, locomotive alerters, and remote control locomotives. The group reached consensus regarding critical locomotive electronic standards, an update of annual biennial air brake standards, clarification of the “air brakes operate as intended” requirement, locomotive pilot clearance within hump classification yards, clarification of the “high Voltage” warning requirement, an updated “headlight lamp” requirements, and language to allow locomotive records to be stored electronically. The Working Group will present a draft Part 229 rule text revision covering these items to the Committee for approval at the September 10, 2009, meeting and if approved, FRA will brief the full RSAC and proceed to NPRM. The Working Group may be called back into service to address comments received on the NPRM after publication. Contact: George Scerbo, (202) 493-6249.

Task 06-02—Track Safety Standards and Continuous Welded Rail (CWR). Section 9005 of the Safe, Accountable, Flexible, Efficient Transportation Equity Act: A Legacy for Users (Pub. L. No. 109-59), the 2005 Surface Transportation Authorization Act, requires FRA to issue requirements for inspection of joint bars in CWR to detect cracks that could affect the integrity of the track structure (49 U.S.C. 20142(e). FRA published an interim final rule (IFR) establishing new requirements for inspections on November 2, 2005 (70 FR 66288). On October 11, 2005, FRA offered the RSAC a task to review comments on this IFR, but conditions could not be established under which the Committee could have undertaken this with a view toward consensus. Comments on the IFR were received through December 19, 2005. FRA reviewed the comments. On February 22, 2006, the RSAC accepted this task to review and revise the CWR, related to provisions of the Track Safety Standards, with particular emphasis on reduction of derailments and consequent injuries and damage caused by defective conditions, including joint failures, in track using CWR. A Working Group was established. The first Working Group meeting was held April 3-4, 2006, at which time the Working Group reviewed comments on the IFR. The second Working Group meeting was held April 26-28, 2006. The Working Group also met May 24-25, 2006, and July 19-20, 2006. The Working Group reported consensus recommendations for the final rule that were accepted by the full RSAC Committee by mail ballot on August 11, 2006. The final rule was published in the Federal Register on October 11, 2006 (71 FR 59677). The Working Group continued review of 49 CFR Section 213.119, with a view to proposing further revisions to update the standards. The Working Group met January 30-31, 2007; April 10-11, 2007; June 27-28, 2007; August 15-16, 2007; October 23-24, 2007; and January 8-9, 2008. The Working Group reported consensus recommendations for revisions to 49 CPR Section 213.119 regulations to the full RSAC Committee on February 20, 2008, and the Working Group's recommendations were accepted. FRA published an NPRM on December 1, 2008, and is preparing a final rule with a target publication date of August 2009. See Tasks 07-01 and 08-03, below. Contact: Ken Rusk, (202) 493-6236.

Task 06-03—Medical Standards for Safety-Critical Personnel. This task was accepted on September 21, 2006, to enhance the safety of persons in the railroad operating environment and the public by establishing standards and procedures for determining the medical fitness for duty of personnel engaged in safety-critical functions. A Working Group has been established and will report any planned activity to the full Committee at each scheduled full RSAC meeting, including milestones for completion of projects and progress toward completion. The first Working Group meeting was held December 12-13, 2006. The Working Group has held follow-on meetings on the following dates: February 20-21, 2007; July 24-25, 2007; August 29-30, 2007; October 31-November 1, 2007; December 4-5, 2007; February 13-14, 2008; March 26-27, 2008; and April 22-23, 2008. At the latter meeting, FRA announced that the agency would prepare an NPRM draft based on the discussions to date and schedule a further meeting for review of the document. The draft NPRM is currently in FRA coordination and the language is being revised based on comments. The draft NPRM will be presented to the RSAC Medical Standards Working Group, when completed. A Physicians Task Force, established by the Working Group in May 2007, is proceeding to develop accompanying medical guidelines, which will be used to provide consistent criteria for determining the medical fitness for duty of the safety-critical positions. These guidelines will be presented for the Medical Standards Working Group consideration, when complete. When accepted by the Medical Standards Working Group, the two parts of the rulemaking will be presented to the full RSAC for approval. The target date for publishing the NPRM is December 2009. The Physicians Task Force has had meetings or conference calls on July 24, 2007; August 20, 2007; October 15, 2007; October 31, 2007; June 23-24, 2008; September 8-10, 2008; October 8, 2008; November 12-13, 2008; December 8-10, 2008; January 27-28, 2009; February 24-25, 2009; March 11-12, 2009; March 31-April 1, 2009; April 15, 2009; April 22, 2009; May 13, 2009; May 20, 2009; and June 17, 2009. Contact: Dr. Bernard Arseneau, (202) 493-6002.

Task 07-01—Track Safety Standards. This task was accepted on February 22, 2007, to consider specific improvements to the Track Safety Standards or other responsive actions, supplementing work already underway on CWR, specifically to: (1) Review controls applied to reuse of rail in CWR “plug rail”; (2) review the issue of cracks emanating from bond wire attachments; (3) consider improvements in the Track Safety Standards related to fastening of rail to concrete ties; and (4) ensure a common understanding within the regulated community concerning requirements for internal rail flaw inspections. The tasks were assigned to the Track Safety Standards Working Group. The Working Group will report any planned activity to the full Committee at each scheduled full RSAC meeting, including milestones for completion of projects and progress toward completion. The first Working Group meeting was held on June 27-28, 2007, and the group met again on August 15-16, 2007, and October 23-24, 2007. Two Task Forces were created under the Working Group: Concrete Ties and Rail Integrity. The Concrete Ties Task Force met on November 26-27, 2007, February 13-14, 2008, April 16-17, 2008, July 9-10, 2008, and September 17-18, 2008. The Concrete Ties Task Force finalized consensus language regarding concrete crossties (49 CFR Part 213) and presented a recommendation to the Track Standards Working Group at the November 20, 2008, Working Group meeting. The language was approved by both the Working Group and the December 10, 2008, RSAC meeting and the Task Force was dissolved. FRA is preparing an NPRM, with a target publication date of September 2009. Contact: Ken Rusk, (202) 493-6236.

Task OS-03—Track Safety Standards Rail Integrity. This task was accepted on September 10, 2008, to consider specific improvements to the Track Safety Standards or other responsive actions designed to enhance rail integrity. The Rail Integrity Task Force was created in October 2007 under Task 07-01 and first met on November 28-29, 2007. The Task Force met on February 12-13, 2008; April 15-16, 2008; July 8-9, 2008; September 16-17, 2008; February 3-4, 2009; and June 16-17, 2009. Consensus has been achieved on bond wires and a common understanding on internal rail flaw inspections has been reached. “Valid test” and “qualified operator” have been defined and will be issued as a technical bulletin. The Task Force has reached consensus to recommend to the Working Group that the item regarding “the effect of rail head wear, surface conditions, and other relevant factors on the acquisition and interpretation of internal rail flaw test results” be closed. The Task Force does not recommend regulatory action concerning head wear. Surface conditions and their affect on test integrity has been discussed and understood during dialogue concerning common understanding on internal rail flaw inspections. The Task Force believes that new technology has been developed that improves test performance, and will impact the affect of head wear and surface conditions on interpretation of internal rail flaw test results. The next Rail Integrity Task Force meeting is scheduled for October 29-30, 2009. Contact: Carlo Patrick, (202) 493-6399.

Task No. 08-04—Positive Train Control. This task was accepted on December 10, 2008, to provide advice regarding development of implementing regulations for Positive Train Control (PTC) systems and their deployment under RSIA. The task included a requirement to convene an initial meeting not later than January 2009 and to report recommendations back to the RSAC no later than April 24, 2009. The PTC Working Group was created in December 2008 by working group member nominations from Committee member organizations under Task 08-04 and the kickoff meeting was held on January 26-27, 2009. The group met again on February 11-13, 2009; February 25-27, 2009; March 17-18, 2009; and March 31-April 1, 2009. On April 2, 2009, the RSAC approved the request by the Working Group for agreement to vote on the draft rule text recommendations from the Working Group by mail ballot. On May 11, 2009, by majority vote via mail ballot, the RSAC Committee accepted the recommendations of the Positive Train Control Working Group and forwarded those recommendations to the Administrator, with the understanding that there are other issues for which FRA will be making proposals with respect to their resolution. The NPRM was published on July 21, 2009 (74 FR 36152), and a public hearing has been announced for August 13, 2009 (74 FR 36152). Comments are due by August 20, 2009. The PTC Working Group will reconvene on August 31-September 2, 2009, to discuss comments received on the NPRM. The target date for the PTC final rule is October 2009, with an effective date of January 2010. An additional Task Force was formed to assist FRA in developing a model template for a successful PTC Implementation Plan (PTCIP). PTCIPs are required to be submitted by April 16, 2010, under mandate of the RSIA. FRA will post a final version of a PTCIP template and an example of a risk-based model for prioritization of line segment implementation to the public FRA Web site, when complete. Contact: Grady Cothen, (202) 493-6302.

Task No. 08-05—Railroad Bridge Safety Assurance. This task was accepted on December 10, 2008, to develop a draft rule encompassing the requirements of Section 417 of the RSIA, Railroad Bridge Safety Assurance. This Section directs the Secretary of Transportation to promulgate regulations, not later than 12 months after the October 16, 2008, date of enactment, requiring owners of track carried on one or more railroad bridges to adopt a bridge safety management program to reduce the risk of human casualties, environmental damage, and disruption to the Nation's railroad transportation system that would result from a catastrophic bridge failure. The Railroad Bridge Working Group, created under Task 08-01, was directed to reconvene, and the kickoff meeting was held January 28-29, 2009. The Working Group also met on February 23-24, 2009, where they reached agreement on consensus language covering all but two issues. The Working Group presented the draft language to the full Committee at the April 2, 2009, meeting and the Committee approved the consensus recommendations by vote as the recommendations of the Committee to the FRA Administrator. The resulting NPRM is currently in coordination, with a target publication date of August 2009. The Working Group may be reconvened to address comments received on the NPRM if time permits. Contact: Gordon Davids, (202) 493-6320.

Task No. 08-07—Conductor Certification. This task was accepted on December 10, 2008, to develop regulations for certification of railroad conductors, as required by the RSIA, and to consider any appropriate related amendments to existing regulations and report recommendations for a proposed final rule or IFR (as determined by FRA in consultation with the Office of the Secretary of Transportation and the Office of Management and Budget) by October 16, 2009. The Conductor Certification Working Group was officially formed by nominations from member organizations in April 2009 and the first meeting was held on July 21-23, 2009. Additional meetings are scheduled for August 25-27, 2009; September 1-17, 2009; and October 20-22, 2009. Contact: Mark McKeon, (202) 493-6350.

Task No. 09-01—Passenger Hours of Service. This task was accepted on April 2, 2009, to provide advice regarding development of implementing regulations for the hours of service of operating employees of commuter and intercity passenger railroads under the RSIA. The group has been tasked to review available data concerning the effects of fatigue on the performance of subject employees and to consider the role of fatigue prevention in determining maximum hours of service. The group has also been tasked to consider the potential for alternative approaches to hours of service using available tools for evaluating the impact of various crew schedules, and to determine the effect of alternative approaches on the availability of employees to support passenger service. The group is charged to report whether existing hours of service restrictions are effective in preventing fatigue among subject employees, whether an alternative approach to hours of service for the subject employees would enhance safety, and whether alternative restrictions on hours of service could be coupled with other fatigue countermeasures to promote the fitness of employees for safety-critical duties. The Passenger Hours of Service Working Group was officially formed through the formal Committee member nomination process in May 2009 and the first meeting was held on June 24, 2009. Additional meetings will be scheduled as often as necessary as soon as work/rest data is available. Contact: Grady Cothen, (202) 493-6302.

Completed Tasks

Task 96-1—(Completed) Revising the Freight Power Brake Regulations.

Task 96-2—(Completed) Reviewing and recommending revisions to the Track Safety Standards (49 CFR Part 213).

Task 96-3—(Completed) Reviewing and recommending revisions to the Radio Standards and Procedures (49 CFR Part 220).

Task 96-5—(Completed) Reviewing and recommending revisions to Steam Locomotive Inspection Standards (49 CFR Part 230).

Task 96-6—(Completed) Reviewing and recommending revisions to miscellaneous aspects of the regulations addressing Locomotive Engineer Certification (49 CFR Part 240).

Task 96-7—(Completed) Developing Roadway Maintenance Machines (On-Track Equipment) Safety Standards.

Task 96-8—(Completed) This planning task evaluated the need for action responsive to recommendations contained in a report to Congress titled, Locomotive Crash worthiness & Working Conditions.

Task 97-1—(Completed) Developing crashworthiness specifications (49 CFR Part 229) to promote the integrity of the locomotive cab in accidents resulting from collisions.

Task 97-2—(Completed) Evaluating the extent to which environmental, sanitary, and other working conditions in locomotive cabs affect the crew's health and the safe operation of locomotives, proposing standards where appropriate.

Task 97-3—(Completed) Developing event recorder data survivability standards.

Task 97-4 and Task 97-5—(Completed) Defining PTC functionalities, describing available technologies, evaluating costs and benefits of potential systems, and considering implementation opportunities and challenges, including demonstration and deployment.

Task 97-6—(Completed) Revising various regulations to address the safety implications of processor-based signal and train control technologies, including communications-based operating systems.

Task 97-7—(Completed) Determining damages qualifying an event as a reportable train accident.

Task OO-1—(Task withdrawn) Determining the need to amend regulations protecting persons who work on, under, or between rolling equipment and persons applying, removing, or inspecting rear end marking devices (Blue Signal Protection).

Task O1-1—(Completed) Developing conformity of FRA's regulations for accident/incident reporting (49 CFR Part 225) to revised regulations of the Occupational Safety and Health Administration, U.S. Department of Labor, and to make appropriate revisions to the FRA Guide for Preparing Accident/Incident Reports.

Task OB-O1—(Completed) Report on the Nation's Railroad Bridges. Report to the FRA Administrator on the current state of railroad bridge safety management; update the findings and conclusions of the 1993 Summary Report of the FRA Railroad Bridge Safety Survey.

Task No. OB-06—(Completed) Hours of Service Recordkeeping and Reporting. Develop revised recordkeeping and reporting requirements for hours of service of railroad employees. Final rule published May 27, 2009, with an effective date of July 16, 2009 (74 FR 25330).

Please refer to the notice published in the Federal Register on March 11, 1996 (61 FR 9740), for more information about the RSAC.

Issued in Washington, DC, on August 10, 2009.
Grady C. Cothen, Jr.,
Deputy Associate Administrator for Safety Standards and Program Development.

[FR Doc. E9-19560 Filed 8-13-09; 8:45 am]

BILLING CODE 4910-06-P